DEPARTMENT OF ENERGY

Federal Energy Regulatory Commission

[Project No. 184-065 California]

El Dorado Irrigation District; Notice of Public Meetings

April 1, 2002.

The Federal Energy Regulatory Commission (Commission) is reviewing the application for a new license for the El Dorado Project (FERC No. 184), which was filed on February 22, 2000. The El Dorado Project, licensed to the El Dorado Irrigation District (EID), is located on the South Fork American River, in El Dorado, Alpine, and Amador Counties, California. The project occupies lands of the Eldorado National Forest.

The EID, several state and Federal agencies, and several non-governmental agencies have asked the Commission for time to work collaboratively with a facilitator to resolve certain issues relevant to this proceeding. These meetings are a part of that collaborative process. On Monday, April 8, there will be meetings of the aquatics-hydrology workgroup and the project economics workgroup. On Tuesday, April 9, the terrestrial resources workgroup will meet. The meetings will focus on further defining interests and development of management objectives. We invite the participation of all interested governmental agencies, non-governmental organizations, and the general public in this meeting.

On Monday, April 8, the aquatics-hydrology workgroup will meet from 9 am until 3 pm and the project economics workgroup will meet from 3 pm to 5 pm. On Tuesday, April 9, the terrestrial workgroup will meet from 11 am to 5 pm. Both meetings will be held in the Folsom Hilton Garden Inn, located at 221 Iron Point Road, Folsom, California.

For further information, please contact Elizabeth Molloy at (202) 208-0771 or John Mudre at (202) 219-1208.

Magalie R. Salas,
Secretary.

[FR Doc. 02-8236 Filed 4-4-02; 8:45 am]

BILLING CODE 6717-01-P